DEPARTMENT OF AGRICULTURE

Agricultural Marketing Service

7 CFR Parts 1000, 1001, 1005, 1006, 1007, 1030, 1032, 1033, 1124, 1126, and 1131

[Docket No. AO-14-A74, et al.; DA-06-01]

Milk in the Northeast and Other Marketing Areas; Reconvening of Hearing on Proposed Amendments to Tentative Marketing Agreements and Orders

AGENCY: Agricultural Marketing Service, USDA.

ACTION: Proposed rule; Notice of reconvened public hearing on proposed rulemaking.

7 CFR part | Marketing area | AO Nos.
1001 | Northeast | AO-14-A74
1005 | Appalachian | AO-388-A18
1006 | Florida | AO-356-A39
1007 | Southeast | AO-366-A47
1030 | Upper Midwest | AO-361-A40
1032 | Central | AO-313-A49
1033 | Mideast | AO-166-A73
1124 | Pacific Northwest | AO-368-A35
1126 | Southwest | AO-231-A68
1131 | Arizona | AO-271-A40

SUMMARY: This notice announces the reconvening of the public hearing that began on January 24, 2006, in Alexandria, Virginia, to consider proposals seeking to amend the Class III and Class IV milk price formula manufacturing allowances applicable to all Federal milk marketing orders.

DATES: The hearing will convene at 8:30 a.m. on September 14, 2006.

ADDRESSES: The hearing will be held at the Holiday Inn Select, 15471 Royalton Road, Strongsville, Ohio 44136, (440) 238-8800.

FOR FURTHER INFORMATION CONTACT: Jack Rower, Marketing Specialist, USDA/AMS/Dairy Programs, Order Formulation and Enforcement Branch, Stop 0231—Room 2971, 1400 Independence Avenue, SW., Washington, DC 20250-0231, (202) 720-2357, e-mail address: jack.rower@usda.gov.

Persons requiring a sign language interpreter or other special accommodations should contact Paul Huber, Assistant Market Administrator, at (330) 225-4752; e-mail address: phuber@fmmaclev.com before the hearing begins. Prior documents in this proceeding:

Notice of Hearing: Issued December 30, 2005; published January 5, 2006 (71 FR 545).

Notice of Intent to Reconvene Hearing: Issued June 23, 2006; published June 28, 2006 (71 FR 36715).

SUPPLEMENTARY INFORMATION: The purpose of reconvening this proceeding is to assure that any changes to manufacturing allowance factors used in Federal order Class III and Class IV product price formulas are appropriate and reflective of manufacturing costs. Specifically, the reconvened hearing will take into evidence only data on plant manufacturing costs compiled by Cornell University and any other pertinent data or information specifically addressing plant manufacturing costs that would be publicly available. Other factors contained in the Class III and Class IV price formulas will not be addressed at the reconvened hearing.

The Department has solicited and is currently receiving additional proposals regarding the Class III and Class IV price formulas. These proposals will be considered for inclusion in a separate hearing notice for a separate public hearing on all issues affecting Class III and Class IV product price formulas.

Notice is hereby given that the public hearing which was adjourned in Alexandria, Virginia, on Friday, January 27, 2006, by the Administrative Law Judge designated to hold said hearing and preside thereof, will reconvene in session at 8:30 a.m., September 14, 2006, at the Holiday Inn Select, Strongsville, Ohio.

At the reconvened hearing, additional testimony will be received on Proposals 1 and 2, listed in the hearing notice (71 FR 545) to the tentative marketing agreements and to the orders regulating the handling of milk in all Federal milk marketing orders.

List of Subjects in 7 CFR Parts 1000, 1001, 1005, 1006, 1007, 1030, 1032, 1033, 1124, 1126, and 1131

Milk marketing orders.

Authority: 7 U.S.C. 601-674, and 7253.

Dated: August 31, 2006.
Lloyd C. Day,
Administrator, Agricultural Marketing Service.

[FR Doc. 06-7476 Filed 9-1-06; 8:45 am]

BILLING CODE 3410-02-P